DEPARTMENT OF TRANSPORTATION

Federal Aviation Administration

14 CFR Part 39

[Docket No. 2002-CE-16-AD; Amendment 39-12899; AD 2002-20-04]

RIN 2120-AA64

Airworthiness Directives; SOCATA—Groupe AEROSPATIALE Model TB 21 Airplanes

AGENCY: Federal Aviation Administration, DOT.

ACTION: Final rule.

SUMMARY: This amendment adopts a new airworthiness directive (AD) that applies to certain SOCATA—Groupe AEROSPATIALE (Socata) Model TB 21 airplanes. This AD requires you to modify the exhaust system. This AD is the result of mandatory continuing airworthiness information (MCAI) issued by the airworthiness authority for France. The actions specified by this AD are intended to prevent high levels of carbon monoxide from entering the cockpit during certain flight configurations, which could result in the pilot becoming incapacitated or impairing his/her judgement. Such a condition could lead to the pilot not being able to make critical flight safety decisions and result in loss of control of the airplane.

DATES: This AD becomes effective on November 18, 2002.

The Director of the Federal Register approved the incorporation by reference of certain publications listed in the regulations as of November 18, 2002.

ADDRESSES: You may get the service information referenced in this AD from SOCATA Groupe AEROSPATIALE, Customer Support, Aerodrome Tarbes-Ossun-Lourdes, BP 930—F65009 Tarbes Cedex, France; telephone: 011 33 5 62 41 73 00; facsimile: 011 33 5 62 41 76 54; or the Product Support Manager, SOCATA—Groupe AEROSPATIALE, North Perry Airport, 7501 Pembroke Road, Pembroke Pines, Florida 33023; telephone: (954) 893-1400; facsimile: (954) 964-4141. You may view this information at the Federal Aviation Administration (FAA), Central Region, Office of the Regional Counsel, Attention: Rules Docket No. 2002-CE-16-AD, 901 Locust, Room 506, Kansas City, Missouri 64106; or at the Office of the Federal Register, 800 North Capitol Street, NW, suite 700, Washington, DC.

FOR FURTHER INFORMATION CONTACT: Karl Schletzbaum, Aerospace Engineer, FAA, Small Airplane Directorate, 901 Locust, Room 301, Kansas City, Missouri 64106; telephone: (816) 329-4146; facsimile: (816) 329-4090.

SUPPLEMENTARY INFORMATION:

Discussion

What Events Have Caused This AD?

The Direction Générale de l'Aviation Civile (DGAC), which is the airworthiness authority for France, recently notified FAA that an unsafe condition may exist on certain Socata Model TB 21 airplanes. The DGAC reports three occurrences in which carbon monoxide levels in the cockpit have been found to be above specified tolerance levels during certain flight configurations. Carbon monoxide is entering the cockpit from the rear part of the fuselage.

This condition resulted from a design problem and all three occurrences were discovered prior to delivery of any of the affected airplanes. The modification required in this AD is being applied at the factory for all other Model TB 21 airplanes not affected by this AD.

What Is the Potential Impact if FAA Took No Action?

This condition, if not corrected, could result in high levels of carbon monoxide entering the cockpit during certain flight configurations. High levels of carbon monoxide in the cockpit could result in the pilot becoming incapacitated or impairing his/her judgement. Such a condition could lead to the pilot not being able to make critical flight safety decisions and result in loss of control of the airplane.

Has FAA Taken Any Action to This Point?

We issued a proposal to amend part 39 of the Federal Aviation Regulations (14 CFR part 39) to include an AD that would apply to certain Socata Model TB 21 airplanes. This proposal was published in the Federal Register as a notice of proposed rulemaking (NPRM) on July 2, 2002 (67 FR 44401). The NPRM proposed to require you to modify the exhaust system.

Was the Public Invited to Comment?

The FAA encouraged interested persons to participate in the making of this amendment. The following presents the comment received on the proposal and FAA's response to the comment.

Comment Issue: AD Is Not Warranted

What Is the Commenter's Concern?

The commenter states that any Model TB airplane with a properly maintained exhaust system should not have a problem with high levels of carbon monoxide entering the cockpit. The commenter has accumulated over 1,200 hours time-in-service and 1,000 landings, including slow and normal flight conditions, on an affected airplane and has not experienced high levels of carbon monoxide in the cockpit. The commenter believes AD action is not necessary.

What Is FAA's Response to the Concern?

We do not concur that AD action is not necessary. We acknowledge that some airplanes may go long periods of time without carbon monoxide problems. However, we continue to receive reports of accident investigations where carbon monoxide poisoning of the crew was a contributor to the accident. Therefore, we have not changed the final rule AD based on this comment.

FAA's Determination

What Is FAA's Final Determination on This Issue?

We carefully reviewed all available information related to the subject presented above and determined that air safety and the public interest require the adoption of the rule as proposed except for the changes discussed above and minor editorial questions. We have determined that these changes and minor corrections:

—Provide the intent that was proposed in the NPRM for correcting the unsafe condition; and

—Do not add any additional burden upon the public than was already proposed in the NPRM.

Cost Impact

How Many Airplanes Does this AD Impact?

We estimate that this AD affects 13 airplanes in the U.S. registry.

What Is the Cost Impact of This AD on Owners/Operators of the Affected Airplanes?

We estimate the following costs to accomplish the modification:

Labor cost | Parts cost | Total cost per airplane | Total cost on U.S. operators
3 workhours × $60 = $180. | $260. | $440. | $440 × 13 = $5,720.

Regulatory Impact

Does This AD Impact Various Entities?

The regulations adopted herein will not have a substantial direct effect on the States, on the relationship between the national government and the States, or on the distribution of power and responsibilities among the various levels of government. Therefore, it is determined that this final rule does not have federalism implications under Executive Order 13132.

Does This AD Involve a Significant Rule or Regulatory Action?

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the 2 criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2002-20-04 SOCATA—Groupe AEROSPATIALE: Amendment 39-12899; Docket No. 2002-CE-16-AD.

(a) What airplanes are affected by this AD? This AD affects Model TB 21 airplanes, serial numbers 500 through 2080, 2091, and 2101, that are certificated in any category.

(b) Who must comply with this AD? Anyone who wishes to operate any of the airplanes identified in paragraph (a) of this AD must comply with this AD.

(c) What problem does this AD address? The actions specified by this AD are intended to prevent high levels of carbon monoxide from entering the cockpit during certain flight configurations, which could result in the pilot becoming incapacitated or impairing his/her judgement. Such a condition could lead to the pilot not being able to make critical flight safety decisions and result in loss of control of the airplane.

(d) What actions must I accomplish to address this problem? To address this problem, you must accomplish the following:

Actions | Compliance | Procedures
(1) Install a part number (P/N) TB 21 9600200000 exhaust extension to the exhaust pipe. This installation is Modification No. MOD.178 | Within the next 50 hours time-in-service (TIS) after November 18, 2002 (the effective date of this AD) | In accordance with Socata TB Aircraft Mandatory Service Bulletin SB 10-126 78, dated November 2001, and the applicable maintenance manual.
(2) Do not install, on any affected airplane, any of the following components without incorporating Modification No. MOD.178 as required by paragraph (d)(1) of this AD: | As of November 18, 2002 (the effective date of this AD) | Not applicable.
(i) Exhaust installation assemblies P/N TB21 56001000, P/N TB21 56001005, or P/N TB21 5600100501; or
(ii) Turbo exhaust tubes P/N TB21 56001001, P/N TB21 56001006, or P/N TB21 5600100601.

(e) Can I comply with this AD in any other way? You may use an alternative method of compliance or adjust the compliance time if:

(1) Your alternative method of compliance provides an equivalent level of safety; and

(2) The Standards Office Manager, Small Airplane Directorate, approves your alternative. Submit your request through an FAA Principal Maintenance Inspector, who may add comments and then send it to the Standards Office Manager.

Note 1: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Karl Schletzbaum, Aerospace Engineer, FAA, Small Airplane Directorate, 901 Locust, Room 301, Kansas City, Missouri 64106; telephone: (816) 329-4146; facsimile: (816) 329-4090.

(g) What if I need to fly the airplane to another location to comply with this AD? The FAA can issue a special flight permit under sections 21.197 and 21.199 of the Federal Aviation Regulations (14 CFR 21.197 and 21.199) to operate your airplane to a location where you can accomplish the requirements of this AD. No passengers are allowed for this flight.

(h) Are any service bulletins incorporated into this AD by reference? Actions required by this AD must be done in accordance with Socata TB Aircraft Mandatory Service Bulletin SB 10-126 78, dated November 2001. The Director of the Federal Register approved this incorporation by reference under 5 U.S.C. 552(a) and 1 CFR part 51. You may get copies from SOCATA Groupe AEROSPATIALE, Customer Support, Aerodrome Tarbes-Ossun-Lourdes, BP 930—F65009 Tarbes Cedex, France; telephone: 011 33 5 62 41 73 00; facsimile: 011 33 5 62 41 76 54; or the Product Support Manager, SOCATA Groupe AEROSPATIALE, North Perry Airport, 7501 Pembroke Road, Pembroke Pines, Florida 33023; telephone: (954) 893-1400; facsimile: (954) 964-4141. You may view copies at the FAA, Central Region, Office of the Regional Counsel, 901 Locust, Room 506, Kansas City, Missouri, or at the Office of the Federal Register, 800 North Capitol Street, NW, suite 700, Washington, DC.

Note 2: The subject of this AD is addressed in French AD 2001-610(A), dated December 12, 2001.

(i) When does this amendment become effective? This amendment becomes effective on November 18, 2002.

Issued in Kansas City, Missouri, on September 20, 2002.
Michael Gallagher,
Manager, Small Airplane Directorate, Aircraft Certification Service.

[FR Doc. 02-24687 Filed 10-2-02; 8:45 am]

BILLING CODE 4910-13-P